DEPARTMENT OF AGRICULTURE

Submission for OMB Review; Comment Request

July 2, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: School Nutrition and Meal Cost Study.

OMB Control Number: 0584—NEW.

Summary Of Collection: The school meal programs administered by the Food and Nutrition Service (FNS) of the U.S. Department of Agriculture are a cornerstone of the nation's nutrition safety net for low-income children. FNS has long been committed to ensuring that the meals provided in schools are healthful and contribute to children's dietary requirements. The School Nutrition and Meal Cost Study (SNMCS) will continue the long-standing commitment of FNS to periodically assess the school meal programs. The SNMCS comes at a time of unprecedented change for the National School Lunch Program (NSLP) and School Breakfast Program (SBP). In the 2012-2013 school year, the school meal programs began to undergo far-reaching changes, mainly stemming from the Healthy, Hunger Free Kids Act (HHFKA, Public Law 111-296). Key reforms stemming from this legislation include new, more stringent meal pattern and nutrient requirements for school meals, new offer-versus-serve rules, gradually increased price for paid meals, and the introduction of nutrition standards for competitive foods. With the implementation of the new meal patters, nutrition requirements, and other changes, FNS has to determine the success of school meals in meeting the program goals set by the new standards, the cost of serving healthful meals that are acceptable to children, and the relationship of the school meals and competitive foods to children's participation in the programs and dietary quality.

Need and Use of the Information: The SNMCS will collect a broad range of data from nationally representative samples of public school food authorities, school, students, and parents during SY 2014-2015. These data will provide needed information about how federally sponsored school meal programs are operating after implementation of the new nutrition standards and other changes in regulations. Without this information FNS will not be able to assess progress toward key strategic goals for the NSLP and SBP or identify related training and technical assistance needs of SFAs and schools.

Description of Respondents: Individual or households; Not-for-profit institutions; State, Local or Tribal Government.

Number of Respondents: 40,509.

Frequency of Responses: Reporting: Annually.

Total Burden Hours: 52,594.

Ruth Brown,
Departmental Information Collection Clearance Officer.

[FR Doc. 2014-16050 Filed 7-8-14; 8:45 am]

BILLING CODE 3410-30-P